DEPARTMENT OF TRANSPORTATION

Federal Aviation Administration

Notice of Intent To Rule on Change in Use of Aeronautical Property at Harnett Regional Jetport, Harnett County, NC

AGENCY: Federal Aviation Administration (FAA), DOT.

ACTION: Notice

SUMMARY: The Federal Aviation Administration (FAA) is requesting public comment on a request by the County of Harnett of North Carolina, owner of the Harnett Regional Jetport, to change a portion of airport property from aeronautical to non-aeronautical use at the Harnett Regional Jetport. The request consists of approximately 2.49 acres to Piedmont Natural Gas Company, Inc. for use as a permanent utility easement for the installation of a gas line.

DATES: Comments must be received on or before October 26, 2017.

ADDRESSES: Comments on this notice may be mailed or delivered in triplicate to the FAA at the following address: Memphis Airports District Office, Attn: Koty Brown, Program Manager, 2600 Thousand Oaks Boulevard, Suite 2250, Memphis, TN 38118.

In addition, one copy of any comments submitted to the FAA must be mailed or delivered to Mr. Gordon Springle, Chairman of the Harnett County Board of Commissioners at the following address: 540 Tippet Road, Angier, NC 27501.

FOR FURTHER INFORMATION CONTACT: Koty Brown, Program Manager, Federal Aviation Administration, Memphis Airports District Office, 2600 Thousand Oaks Boulevard, Suite 2250, Memphis, TN 38118-2482.

The application may be reviewed in person at this same location, by appointment.

SUPPLEMENTARY INFORMATION: The FAA proposes to rule and invites public comment on the request to release property for non-aeronautical purposes at Harnett Regional Jetport, Harnett County, NC under the provisions of 49 U.S.C. 47107(h)(2). The FAA determined that the request to release property at Harnett Regional Jetport (HRJ) submitted by the County of Harnett meets the procedural requirements of the FAA and the release of the property does not and will not impact future aviation needs at the airport. The FAA may approve the request, in whole or in part, no sooner than thirty days after the publication of this notice.

The following is a brief overview of the request:

The County of Harnett is proposing the release of approximately 2.49 acres to Piedmont Natural Gas Company, Inc. for use as a permanent utility easement for the installation of a gas line. This property is located along US Highway 421 South on the existing airport northeastern property line. This property is separated from the majority of airport property by US Highway 421 South. The proposed use of this property is compatible with airport operations.

Any person may inspect, by appointment, the request in person at the FAA office listed above under FOR FURTHER INFORMATION CONTACT.

Issued in Memphis, TN on September 19, 2017.
Phillip J. Braden,
Manager, Memphis Airports District Office, Southern Region.

[FR Doc. 2017-20574 Filed 9-25-17; 8:45 am]

BILLING CODE 4910-13-P